DEPARTMENT OF THE INTERIOR

National Park Service

[NPS-WASO-NAGPRA-NPS0039966; PPWOCRADN0-PCU00RP14.R50000]

Notice of Inventory Completion: U.S. Department of the Interior, National Park Service, Delaware Water Gap National Recreation Area, Bushkill, PA

AGENCY: National Park Service, Interior.

ACTION: Notice.

SUMMARY: In accordance with the Native American Graves Protection and Repatriation Act (NAGPRA), the U.S. Department of the Interior, National Park Service, Delaware Water Gap National Recreation Area (DEWA) has completed an inventory of human remains and has determined that there is a cultural affiliation between the human remains and Indian Tribes or Native Hawaiian organizations in this notice.

DATES: Repatriation of the human remains in this notice may occur on or after May 19, 2025.

ADDRESSES: Eamon Leighty, Acting Superintendent, Delaware Water Gap National Recreation Area, 1978 River Road, Bushkill, PA 18324, telephone (570) 426-2412, email eamon_leighty@nps.gov.

SUPPLEMENTARY INFORMATION: This notice is published as part of the National Park Service's administrative responsibilities under NAGPRA. The determinations in this notice are the sole responsibility of the Acting Superintendent, DEWA, and additional information on the determinations in this notice, including the results of consultation, can be found in its inventory or related records.

Abstract of Information Available

Human remains representing at least three individuals have been identified. These ancestral remains were removed by a Seton Hall University archeological student during 1974 excavations at a site in Sussex County, NJ. The student was given permission by a university professor to retain the remains for study. In 2020, DEWA staff discovered that the former student had mailed the remains to DEWA. No known individuals were identified. No associated funerary objects are present.

Cultural Affiliation

Based on the information available and the results of consultation, cultural affiliation is reasonably identified by the geographical location or acquisition history of the human remains described in this notice.

Determinations

DEWA has determined that:

• The human remains described in this notice represent the physical remains of three individuals of Native American ancestry.

• There is a connection between the human remains described in this notice and the Delaware Nation, Oklahoma; Delaware Tribe of Indians; and the Stockbridge Munsee Community, Wisconsin.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after May 19, 2025. If competing requests for repatriation are received, DEWA must determine the most appropriate requestor prior to repatriation. Requests for joint repatriation of the human remains are considered a single request and not competing requests. DEWA is responsible for sending a copy of this notice to the Indian Tribes and Native Hawaiian organizations identified in this notice.

(Authority: Native American Graves Protection and Repatriation Act, 25 U.S.C. 3003, and the implementing regulations, 43 CFR 10.10.)

Dated: April 8, 2025.
Melanie O'Brien,
Manager, National NAGPRA Program.

[FR Doc. 2025-06654 Filed 4-17-25; 8:45 am]

BILLING CODE 4312-52-P